DEPARTMENT OF TRANSPORTATION

Pipeline and Hazardous Materials Safety Administration

Actions on Special Permit Applications

AGENCY: Office of Hazardous Materials Safety, Pipeline and Hazardous Materials Safety Administration (PHMSA), DOT.

ACTION: Notice of actions on special permit applications.

SUMMARY: In accordance with the procedures governing the application for, and the processing of, special permits from the Department of Transportation's Hazardous Material Regulations (49 CFR part 107, Subpart B), notice is hereby given of the actions on special permits applications in (October to October 2014). The mode of transportation involved are identified by a number in the “Nature of Application” portion of the table below as follows: 1—Motor vehicle, 2—Rail freight, 3—Cargo vessel, 4—Cargo aircraft only, 5—Passenger-carrying aircraft. Application numbers prefixed by the letters EE represent applications for Emergency Special Permits. It should be noted that some of the sections cited were those in effect at the time certain special permits were issued.

Issued in Washington, DC, on November 13, 2014.
Donald Burger,
Chief, Special Permits and Approvals Branch.

S.P. No. | Applicant | Regulation(s) | Nature of special permit thereof
Modification Special Permit Granted
16266-M | Stericycle, Inc., Lake Forest | 49 CFR 173.196(a) | To modify the special permit to authorize an additional packaging configuration.
11770-M | Gas Cylinder Technologies, Inc., Lakeshore, Ontario | 49 CFR 173.302a, and 173.304a | To modify the special permit to authorize cargo and passenger aircraft as an additional mode of transportation.
New Special Permit Granted
16144-N | Stage FX, Inc., Columbus, MT | 49 CFR 173.56(b) and 172.320 | To authorize the transportation in commerce of certain Class 1 materials without EX classification for approximately 15 miles by motor vehicle. (mode 1).
16174-N | Goal Zero, Bluffdale, UT | 49 CFR 173.185(a)(1) | To authorize the transportation in commerce of certain lithium batteries that do not have the original UN test certifications by motor vehicle. (mode 1).
Emergency Special Permit Granted
16263-N one- | Kalitta Air, LLC, Ypsilanti, MI | 49 CFR 172.101 Column (9B), 172.204(c)(3), 173.27(b)(2) and (3) and 175.30(a)(1) | To authorize the time transportation in commerce of certain explosives that are forbidden for transportation by cargo only aircraft. (mode 4).
16266-N | Stericycle, Inc., Lake Forest, IL | 49 CFR 173.196(a) | To authorize the transportation in commerce of Ebola contaminated waste for disposal or incineration. (mode 1).
16279-N | Veolia ES Technical Solutions, L.L.C., Flanders, NJ | 49 CFR 173.196(a) and (b) | To authorize the transportation in commerce of ebola contaminated waste in alternative packaging. (mode 1).
16278-N | Stericycle, Inc., Lake Forest, IL | 49 CFR 173.196(a) | To authorize the transportation in commerce of Ebola contaminated medical waste in alternative packaging for disposal or incineration. (mode 1).
New Special Permit Withdrawn
16242-N | E.I. duPont de Nemours and Company, Wilmington, DE | 49 CFR 173.32(a)(2) | To authorize the transportation in commerce of two portable tanks that have been filled after the prescribed periodic inspection was due. (mode 1).
16296-N | Southern California Aviation, Victorville, CA | 49 CFR 173.56 | To authorize the transportation in commerce of chemical oxygen generators. (modes 1, 4).
16126-N | Raytheon Missile Systems, Tucson, AZ | 49 CFR 173.62 | To authorize the transportation in commerce of certain Cartridges, power device in UN5OB large packaging. (mode 1).
Emergency Special Permit Withdrawn
16282-N | Progressive Environmental Services, Inc., d-b-a, SWS Environmental Services, Panama City Beach, FL | 49 CFR 173.196(a) | To authorize the transportation in commerce of certain Ebola contaminated medical waste for autoclaving or incineration. (mode 1).

[FR Doc. 2014-27427 Filed 11-20-14; 8:45 am]

BILLING CODE 4910-60-M